ENVIRONMENTAL PROTECTION AGENCY

40 CFR Part 60

[TN-2001-01; FRL-6941-7]

New Stationary Sources; Supplemental Delegation of Authority to Knox County, TN

AGENCY: Environmental Protection Agency (EPA).

ACTION: Delegation of authority.

SUMMARY: The Knox County Department of Air Quality Management located in Knoxville, Tennessee has requested that EPA delegate authority for implementation and enforcement of existing New Source Performance Standards (NSPS) which have been previously adopted by the Knox County Department of Air Quality Management (KCDAQM or local agency) but have remained undelegated by EPA, and to approve the mechanism for delegation (adopt-by-reference) of future NSPS. The purpose of the local agency request for approval of its delegation mechanism is to streamline existing administrative procedures by eliminating any unnecessary steps involved in the federal delegation process. With this NSPS delegation mechanism in place, a new or revised NSPS promulgated by EPA will become effective in Knox County on the date the NSPS is adopted if the local agency adopts the NSPS without change. No further local agency requests for delegation will be necessary. Likewise, no further Federal Register notices will be published. EPA reserves the right to implement the federal NSPS directly and continues to retain concurrent enforcement authority. The EPA's review of the local agency's pertinent laws, rules, and regulations indicate that adequate and effective procedures are in place for the implementation and enforcement of these Federal standards. This document was written to inform the public of delegations that were made to KCDAQM for which a Federal Register notice was not previously written and to inform the public of the local agency's new mechanism for delegation of future NSPS.

EFFECTIVE DATE: The effective date is March 1, 2001.

ADDRESSES: Copies of the request for delegation of authority and EPA's letter of delegation are available for public inspection during normal business hours at the following locations:

Environmental Protection Agency, Region 4, Air and Radiation Technology Branch, 61 Forsyth Street, SW., Atlanta, Georgia 30303.

Knox County Department of Air Quality Management, City/County Building, Suite 459, 400 West Main Street, Knoxville, Tennessee 37902-2405.

Effective March 1, 2001, all requests, applications, reports and other correspondence required pursuant to the delegated standards should not be submitted to the Region 4 office, but should instead be submitted to the following address:

Knox County Department of Air Quality Management, City/County Building, Suite 459, 400 West Main Street, Knoxville, Tennessee 37902-2405.

FOR FURTHER INFORMATION CONTACT: Katy Forney, Air and Radiation Technology Branch, Environmental Protection Agency, Region 4, 61 Forsyth St. SW., Atlanta, Georgia 30303, 404-562-9130. E-mail: reeves.kathleen@epa.gov

SUPPLEMENTARY INFORMATION: Section 301, in conjunction with sections 110 and 111(c)(1) of the Clean Air Act as amended November 15, 1990, authorize EPA to delegate authority to implement and enforce the standards set out in 40 CFR part 60, New Source Performance Standards (NSPS).

On May 20, 1977, the EPA initially delegated the authority for implementation and enforcement of the NSPS program to Knox County. This agency has subsequently requested a delegation of authority for implementation and enforcement of the previously adopted, undelegated part 60 NSPS categories listed below as well as future NSPS categories codified in 40 CFR part 60.

Delegation Requested on May 8, 1997:

40 CFR part 60, Subpart VV, as amended 6-12-96

40 CFR part 60, Subpart Dc, as amended 5-8-96

Delegation Requested on October 18, 1996:

40 CFR part 60, Subpart Ea, as amended 12-19-95

40 CFR part 60, Subpart Eb, as amended 12-19-95

40 CFR part 60, Subpart WWW, promulgated 3-12-96

All current NSPS categories are delegated with the exception of the following sections within those subparts that may not be delegated. Future NSPS regulations will contain a list of sections that will not be delegated for that subpart.

1. Subpart A—§ 60.8(b) (2) and (3), § 60.11(e) (7) and (8), § 60.13 (g), (i) and (j)(2).

2. Subpart B—§ 60.22, § 60.27, and § 60.29.

3. Subpart Da—§ 60.45a.

4. Subpart Db—§ 60.44b(f), § 60.44b(g), § 60.49b(a)(4).

5. Subpart Dc—§ 60.48c(a)(4).

6. Subpart Ec—§ 60.56(c)(i).

7. Subpart J—§ 60.105(a)(13)(iii), § 60.106(i)(12).

8. Subpart Ka—§ 60.114a.

9. Subpart Kb—§ 60.111b(f)(4), § 60.114b, § 60.116b(e)(3) (iii) and (iv), § 60.116b(f)(2)(iii).

10. Subpart O—§ 60.153(e).

11. Subpart EE—§ 60.316(d).

12. Subpart GG—§ 60.334(b)(2), § 60.335(f)(1).

13. Subpart RR—§ 60.446(c).

14. Subpart SS—§ 60.456(d).

15. Subpart TT—§ 60.466(d).

16. Subpart UU—§ 60.474(g).

17. Subpart VV—§ 60.482-1(c)(2) and § 60.484.

18. Subpart WW—§ 60.496(c).

19. Subpart XX—§ 60.502(e)(6).

20. Subpart AAA—§ 60.531, § 60.533, § 60.534, § 60.535, § 60.536(i)(2), § 60.537, § 60.538(e), § 60.539.

21. Subpart BBB—§ 60.543(c)(2)(ii)(B).

22. Subpart DDD—§ 60.562-2(c).

23. Subpart III—§ 60.613(e).

24. Subpart NNN—§ 60.663(e).

25. Subpart RRR—§ 60.703(e).

26. Subpart SSS—§ 60.711(a)(16), § 60.713(b)(1)(i), § 60.713(b)(1)(ii), § 60.713(b)(5)(i), § 60.713(d), § 60.715(a), § 60.716.

27. Subpart TTT—§ 60.723(b)(1), § 60.723(b)(2)(i)(C), § 60.723(b)(2)(iv), § 60.724(e), § 60.725(b).

28. Subpart VVV—§ 60.743(a)(3)(v)(A) and (B), § 60.743(e), § 60.745(a), § 60.746.

29. Subpart WWW—§ 60.754(a)(5).

After a thorough review of the request, the Regional Administrator determined that such a delegation was appropriate for all source categories. All sources subject to the requirements of 40 CFR part 60 will now be under the jurisdiction of the appropriate above mentioned agency.

Since review of the pertinent laws, rules, and regulations for the local agency has shown them to be adequate for implementation and enforcement of existing, previously adopted, undelegated NSPS and future NSPS, EPA hereby notifies the public that it has delegated the authority for existing, previously adopted and undelegated NSPS as well as the mechanism for delegation (adopt-by-reference) of future NSPS source categories upon publication of this Federal Register document.

Administrative Requirements

The Office of Management and Budget has exempted this regulatory action from Executive Order 12866, entitled “Regulatory Planning and Review.”

The Congressional Review Act, as amended by the Small Business Regulatory Enforcement Fairness Act of 1996 (5 U.S.C. 801 et seq.), generally provides that before a rule may take effect, the agency promulgating the rule must submit a rule report, which includes a copy of the rule, to each House of the Congress and to the Comptroller General of the United States. However, Section 808 allows the issuing agency to make a rule effective sooner than otherwise provided by the Congressional Review Act if the agency makes a good cause finding that notice and public procedure is impracticable, unnecessary or contrary to the public interest. This determination must be supported by a brief statement. 5 U.S.C. 808(2). As stated previously, EPA has made such a good cause finding, including the reasons therefor, and established an effective date of March 1, 2001. EPA will submit a report containing this rule and other required information to the U.S. Senate, the U.S. House of Representatives, and the Comptroller General of the United States prior to publication of the rule in the Federal Register. This action is not a “major rule” as defined by 5 U.S.C. 804(2).

Authority: This document is issued under the authority of sections 101, 110, 111, 112 and 301 of the Clean Air Act, as Amended (42 U.S.C. 7401, 7410, 7411, 7412 and 7601).

Dated: January 16, 2001.
A. Stanley Meiburg,
Acting Regional Administrator, Region 4.

[FR Doc. 01-4977 Filed 2-28-01; 8:45 am]

BILLING CODE 6560-50-P